DEPARTMENT OF LABOR

Employment and Training Administration

[TA-W-40,453]

Penley Corp., West Paris, ME; Notice of Revised Determination on Reconsideration

By letter of March 24, 2002, the company requested administrative reconsideration regarding the Department's Negative Determination Regarding Eligibility to Apply for Worker Adjustment Assistance, applicable to the workers of the subject firm.

The initial investigation resulted in a negative determination issued on March 1, 2002, based on the finding that imports of wooden spring clothespins did not contribute importantly to worker separations at the subject plant. The denial notice was published in the Federal Register on March 20, 2002 (67 FR 13012).

To support the request for reconsideration, the company in their request for reconsideration indicated that they were importing clothespins.

A review of the allegation and information provided by the company shows that the company began importing clothespins during the relevant period. The company further indicated that all production at the subject firm is being replaced by imported clothespins, thus impacting the workers at the subject plant.

Conclusion

After careful review of the additional facts obtained on reconsideration, I conclude that increased imports of articles like or directly competitive with those produced at Penley Corporation, West Paris, Maine contributed importantly to the declines in sales or production and to the total or partial separation of workers at the subject firm. In accordance with the provisions of the Act, I make the following certification:

“All workers of Penley Corporation, West Paris, Maine, who became totally or partially separated from employment on or after December 6, 2000 through two years from the date of this certification, are eligible to apply for adjustment assistance under section 223 of the Trade Act of 1974.”

Signed in Washington, DC, this 9th day of May, 2002.
Edward A. Tomchick,
Director, Division of Trade Adjustment Assistance.

[FR Doc. 02-13546 Filed 5-29-02; 8:45 am]

BILLING CODE 4510-30-P